SECURITIES AND EXCHANGE COMMISSION

[Release No. 34-48820; File No. SR-OCC-2002-23]

Self-Regulatory Organizations; the Options Clearing Corporation; Notice of Withdrawal of a Proposed Rule Change Relating to Physically-Settled Futures on Narrow-Based Stock Indexes

November 21, 2003.

On September 30, 2002, The Options Clearing Corporation (“OCC”) submitted to the Securities and Exchange Commission (“Commission”) a proposed rule change pursuant to section 19(b)(1) of the Securities Exchange Act of 1934 (“Act”)¹ that would allow OCC to provide clearance and settlement services for physically-settled futures on narrow-based stock indexes. The proposed rule change was published in the Federal Register on October 9, 2002.² No comment letters were received. On June 26, 2003, OCC withdrew the proposed rule change.³

¹ 15 U.S.C. 78s(b)(1).

² Securities Exchange Act Release No. 46593 (October 2, 2002), 68 FR 63006.

³ Letter from Jean M. Cawley, First Vice President and Deputy General Counsel, OCC, to Jerry Carpenter, Assistant Director, Division of Market Regulation, Commission (June 26, 2003).

For the Commission by the Division of Market Regulation, pursuant to delegated authority.⁴
⁴ 17 CFR 200.30-3(a)(12).
Margaret H. McFarland,
Deputy Secretary.

[FR Doc. 03-30060 Filed 12-2-03; 8:45 am]

BILLING CODE 8010-01-P